DEPARTMENT OF TRANSPORTATION

Maritime Administration

[Docket No. MARAD-2019-0012]

Deepwater Port License Application: Texas COLT LLC (Texas COLT)

AGENCY: Maritime Administration, Department of Transportation.

ACTION: Notice of application.

SUMMARY: The Maritime Administration (MARAD) and the U.S. Coast Guard (USCG) announce they have received an application for the licensing of a deepwater port and that the application contains information sufficient to commence processing. This notice summarizes the applicant's plans and the procedures that will be followed in considering the application.

DATES: The Deepwater Port Act of 1974, as amended, requires at least one public hearing on this application to be held in the designated Adjacent Coastal State(s) not later than 240 days after publication of this notice, and a decision on the application not later than 90 days after the final public hearing(s).

ADDRESSES: The public docket for the Texas COLT deepwater port license application is maintained by the U.S. Department of Transportation, Docket Management Facility, West Building, Ground Floor, Room W12-140, 1200 New Jersey Avenue SE, Washington, DC 20590. The license application is available for viewing at the Regulations.gov website: http://www.regulations.gov under docket number MARAD-2019-0012.

We encourage you to submit comments electronically through the Federal eRulemaking Portal at http://www.regulations.gov. If you submit your comments electronically, it is not necessary to also submit a hard copy. If you cannot submit material using http://www.regulations.gov, please contact either Mr. Ken Smith, USCG or Mr. Linden Houston, MARAD, as listed in the following FOR FURTHER INFORMATION CONTACT section of this document. This section provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. Ken Smith, U.S. Coast Guard, telephone: 202-372-1413, email: Ken.A.Smith@uscg.mil, or Mr. Linden Houston, Maritime Administration, telephone: 202-366-4839, email: Linden.Houston@dot.gov. For questions regarding viewing the Docket, call Docket Operations, telephone: 202-366-9317 or 202-366-9826.

SUPPLEMENTARY INFORMATION:

Receipt of Application

On February 4, 2019, MARAD and USCG received an application from Texas COLT for all Federal authorizations required for a license to own, construct, and operate a deepwater port for the export of oil as authorized by the Deepwater Port Act of 1974, as amended, 33 U.S.C. 1501 et seq. (the Act), and implemented under 33 Code of Federal Regulations (CFR) Parts 148, 149, and 150. After a coordinated completeness review by MARAD, the USCG, and other cooperating Federal agencies, the application is deemed complete and contains information sufficient to initiate processing.

Background

The Act defines a deepwater port as any fixed or floating manmade structure other than a vessel, or any group of such structures, that are located beyond State seaward boundaries and used or intended for use as a port or terminal for the transportation, storage, and further handling of oil or natural gas for transportation to, or from, any State. A deepwater port includes all components and equipment, including pipelines, pumping or compressor stations, service platforms, buoys, mooring lines, and similar facilities that are proposed as part of a deepwater port to the extent they are located seaward of the high-water mark.

The Secretary of Transportation delegated to the Maritime Administrator authorities related to licensing deepwater ports (49 CFR 1.93(h)). Statutory and regulatory requirements for processing applications and licensing appear in 33 U.S.C. 1501 et seq. and 33 CFR part 148. Under delegations from, and agreements between, the Secretary of Transportation and the Secretary of Homeland Security, applications are jointly processed by MARAD and USCG. Each application is considered on its merits.

In accordance with 33 U.S.C. 1504(f) for all applications, MARAD and the USCG, working in cooperation with other involved Federal agencies and departments, shall comply with the requirements of the National Environmental Policy Act (NEPA) of 1969 (42 U.S.C. 4321 et seq.). The U.S. Environmental Protection Agency (EPA), the U.S. Army Corps of Engineers (USACE), the National Oceanic and Atmospheric Administration (NOAA), the Bureau of Ocean Energy Management (BOEM), the Bureau of Safety and Environmental Enforcement (BSEE), and the Pipeline and Hazardous Materials Safety Administration (PHMSA), among others, participate in the processing of deepwater port applications and assist in the NEPA process as described in 40 CFR 1501.6. Each agency may participate in scoping and/or other public meeting(s); and may incorporate the MARAD/USCG environmental impact review for purposes of their jurisdictional permitting processes, to the extent applicable. Comments related to this deepwater port application addressed to the EPA, USACE, or other federal agencies should note the federal docket number, MARAD-2019-0012. Each comment will be incorporated into the Department of Transportation (DOT) docket and considered as the environmental impact analysis is developed to ensure consistency with the NEPA process.

All connected actions, permits, approvals and authorizations will be considered during the processing of the Texas COLT deepwater port license application.

MARAD, in issuing this Notice of Application pursuant to 33 U.S.C. 1504(c), must designate as an “Adjacent Coastal State” any coastal state which (A) would be directly connected by pipeline to a deepwater port as proposed in an application, or (B) would be located within 15 nautical miles of any such proposed deepwater port (see 33 U.S.C. 1508(a)(1)). Pursuant to the criteria provided in the Act, Texas is the designated Adjacent Coastal State for this application. Other states may request from the Maritime Administrator designation as an Adjacent Coastal State in accordance with 33 U.S.C. 1508(a)(2).

The Act directs that at least one public hearing take place in each Adjacent Coastal State, in this case, Texas. Additional public meetings may be conducted to solicit comments for the environmental analysis to include public scoping meetings, or meetings to discuss the Draft and Final environmental impact documents prepared in accordance with NEPA.

MARAD, in coordination with the USCG, will publish additional Federal Register notices with information regarding these public meeting(s) and hearing(s) and other procedural milestones, including the NEPA environmental impact review. The Maritime Administrator's decision, and other key documents, will be filed in the public docket for the application at docket number MARAD-2019-0012.

The Deepwater Port Act imposes a strict timeline for processing an application. When MARAD and USCG determine that an application is complete (i.e., contains information sufficient to commence processing), the Act directs that all public hearings on the application be concluded within 240 days from the date the Notice of Application is published.

Within 45 days after the final hearing, the Governor of the Adjacent Costal State, in this case the Governor of Texas, may notify MARAD of their approval, approval with conditions, or disapproval of the application. If such approval, approval with conditions, or disapproval is not provided to the Maritime Administrator by that time, approval shall be conclusively presumed. MARAD may not issue a license without the explicit or presumptive approval of the Governor of the Adjacent Coastal State. During this 45-day period, the Governor may also notify MARAD of inconsistencies between the application and State programs relating to environmental protection, land and water use, and coastal zone management. In this case, MARAD may condition the license to make it consistent with such state programs (33 U.S.C. 1508(b)(1)). MARAD will not consider written approvals or disapprovals of the application from the Governor of the Adjacent Coastal State until after the final public hearing is complete and the 45-day period commences.

The Maritime Administrator must render a decision on the application within 90 days after the final hearing.

In accordance with section 33 U.S.C. 1504(d), MARAD is required to designate an application area for a deepwater port application intended to transport oil. Section 1504(d)(2) provides MARAD the discretion to establish a reasonable application area constituting the geographic area in which only one deepwater port may be constructed and operated. MARAD has consulted with USCG in developing Texas COLT's application area and designates an application area encompassing the deepwater port that is a circle having a radius of no less than three and one-half (3.50) nautical miles centered at Texas COLT's proposed platform, latitude N 28° 26′43.2″ and longitude W 95°18′00.4″ and 0.25 nautical miles on either side of Texas COLT's proposed pipeline route between the terminal and the shore. Any person interested in applying for the ownership, construction, and operation of a deepwater port within this designated application area must file with MARAD (see FOR FURTHER INFORMATION CONTACT) a notice of intent to file an application for the construction and operation of a deepwater port not later than 60 days after the date of publication of this notice, and shall submit a completed application no later than 90 days after publication of this notice.

Should a favorable record of decision be rendered and license be issued, MARAD may include specific conditions related to design, construction, operations, environmental permitting, monitoring and mitigations, and financial responsibilities. If a license is issued, USCG in coordination with other agencies as appropriate, would review and approve the deepwater port's engineering, design, and construction; operations/security procedures; waterways management and regulated navigation areas; maritime safety and security requirements; risk assessment; and compliance with domestic and international laws and regulations for vessels that may call on the port. The deepwater port would be designed, constructed and operated in accordance with applicable codes and standards.

In addition, installation of pipelines and other structures may require permits under Section 404 of the Clean Water Act and Section 10 of the Rivers and Harbors Act, which are administered by the USACE.

Permits from the EPA may also be required pursuant to the provisions of the Clean Air Act, as amended, and the Clean Water Act, as amended.

Summary of the Application

Texas COLT is proposing to construct, own, and operate a deepwater port terminal in the Gulf of Mexico to export domestically produced crude oil. Use of the DWP would include the loading of various grades of crude oil at flow rates of up to 85,000 barrels per hour (bph). At full operating capacity, twenty-three Very Large Crude Carrier (VLCC) vessels (or equivalent volumes) would be loaded per month from the proposed deepwater port. VLCCs can carry cargos of approximately 2 million barrels of oil. Loading of one VLCC vessel is expected to take 24 hours.

The overall project would consist of offshore and marine components as well as onshore components as described below.

The COLT deepwater port offshore and marine components would consist of the following:

• Texas COLT Offshore Manned Platform and Control Center: One (1) fixed offshore platform with piles in Brazos Area Outer Continental Shelf lease block 466, approximately 27.8 nautical miles off the coast of Brazoria County, Texas in a water depth of approximately 110 feet. The fixed offshore platform would be comprised of several decks including: A sump deck and a cellar deck. The cellar deck will have a supporting pig trap, leak detection meter, control valve, oil relief (Holding) tank, and associated equipment, complete with living quarters, control room and a helideck.

• One (1) 42-inch outside diameter, 27.8-nautical-mile long crude oil pipeline would be constructed from the shoreline crossing in Brazoria County, Texas, to the COLT deepwater port for crude oil delivery. This pipeline would connect the Texas COLT Onshore Delivery Pipeline to the offshore Texas COLT deepwater port platform.

• The platform is connected to VLCC tankers for loading by two (2) 42-inch outside diameter departing pipelines. Each pipeline will depart the offshore platform, carrying the oil to a Pipeline End Manifold (PLEM) in approximately 110 feet water depth located one nautical mile from the offshore platform. Each PLEM is then connected through two 24-inch underbuoy hoses to a Single Point Mooring (SPM) Buoy. Two 24-inch floating loading hoses will connect the SPM Buoy to the VLCC.

The Texas COLT deepwater port onshore storage and supply components would consist of the following:

• Texas COLT Onshore Storage Terminal: The proposed Onshore Storage Terminal would be located in Brazoria County, Texas, on approximately 245 acres of land consisting of twenty-five (25) above ground storage tanks, each with a working storage capacity of 600,000 barrels, for a total onshore storage capacity of approximately 15 million barrels. The Texas COLT Onshore Storage Terminal also would include: Eight (8) 2,500-hp vertical product pumps; six (6) 750-hp vertical recirculation pumps; two (2) receiving manifolds; one (1) product metering station; two (2) motor control centers; nine (9) auxiliary electrical control buildings in the storage tank area; one (1) administrative building and onshore operations control center and one (1) 15,000 square foot warehouse building.

• Texas COLT Pump Station: The Texas COLT Pump Station will be at the Texas COLT Onshore Storage Terminal site and will be comprised of twelve, 7,000 horsepower (hp) pumps (two banks of six pumps including two total spare pumps). The Texas COLT Pump Station will boost the system pressure to a maximum flow rate of 85,000 barrels per hour.

• Four onshore crude oil pipelines and affiliated facilities would be constructed onshore to support the Texas COLT deepwater port and include the following items:

○ Genoa Pipeline: One (1) 60-mile-long 24-inch crude oil pipeline from Genoa Junction to the proposed Texas COLT Onshore Storage Terminal. This pipeline would be located in Harris County, Galveston County and Brazoria County, Texas. Additional components include six Mainline Emergency Flow Restriction Device (EFRD) valves along the pipeline to facilitate shutdowns as needed, two meter stations (Kurland Station and Texas COLT Terminal Metering Station), two pump stations (Kurland Pump Station and Rosharon Pump Station), launcher traps and receiver traps, transfer meter, and surge relief.

○ Gray Oak Connector Pipeline: One (1) 28-mile-long, 30-inch inbound pipeline in Brazoria County, Texas from Sweeny Junction to the Texas COLT Onshore Terminal. Additional components include one pump station (Texas COLT Sweeny Junction Pump Station), and Mainline EFRD valves to facilitate shutdowns as needed, as well as a launcher trap, receiver trap, transfer meter, and surge relief.

○ Onshore Delivery Pipeline: One (1) 8 mile, 42-inch outbound pipeline in Brazoria County, Texas from the Texas COLT Onshore Storage Terminal to the Texas COLT Offshore Delivery Pipeline. Additional components include three Mainline EFRD Valves along the pipeline to facilitate shutdowns as needed.

○ Seaway Pipeline Connection: One (1) 1 mile bi-directional, 30-inch diameter pipeline and associated facilities in Brazoria County, Texas between the Seaway Jones Creek Crude Oil Terminal and the Texas COLT Onshore Storage Terminal. The Texas COLT Seaway Pipeline Connection will primarily receive crude oil from the Seaway Jones Creek Crude Oil Terminal. Additional components include EFRD Valves to facilitate shutdowns as needed, launcher trap, receiver trap, transfer meter, and surge relief.

Crude oil will be delivered to the Texas COLT Onshore Storage Terminal from existing sources via the Texas COLT Gray Oak Connector Pipeline, Texas COLT Genoa Pipeline, and Texas COLT Seaway Pipeline Connection. Crude oil will be delivered to the Texas COLT Offshore Manned Platform and Control Center via the Texas COLT Onshore Delivery Pipeline and continuing through the Texas COLT Offshore Delivery Pipeline. The Texas COLT Deepwater Port will transfer the crude oil to VLCCs through two separate SPM Buoy systems. VLCCs will moor to the SPM Buoys with support from assist vessels.

Privacy Act

DOT posts comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 33 U.S.C. 1501, et seq.; 49 CFR 1.93(h) * * *.

Dated: February 28, 2019.
By Order of the Maritime Administrator.
T. Mitchell Hudson, Jr.,
Secretary, Maritime Administration.

[FR Doc. 2019-03902 Filed 3-4-19; 8:45 am]

BILLING CODE 4910-81-P